DEPARTMENT OF COMMERCE

National Oceanic and Atmospheric Administration

50 CFR Part 300

[Docket No. 020131023-2056-02; I.D. 070302B]

Pacific Halibut Fisheries; Washington Sport Fisheries

AGENCY: National Marine Fisheries Service (NMFS), National Oceanic and Atmospheric Administration (NOAA), Commerce.

ACTION: Inseason action and partial closure; request for comments.

SUMMARY: NMFS announces changes to the regulations for the Area 2A sport halibut fisheries off the south coast of Washington. This action would change the days and the area open to halibut fishing along the south coast. The purpose of this action is to allow continued access to Washington’s south coast halibut quota while reducing the likelihood of yelloweye rockfish interception.

DATES: Effective 0001 local time, July 12, 2002, through the Federal Register publication of the 2003 specifications and management measures. Comments on this rule will be accepted through July 30, 2002.

ADDRESSES: Submit comments to D. Robert Lohn, Regional Administrator, Northwest Region, NMFS, 7600 Sand Point Way NE, Seattle, WA 98115-0070. This Federal Register document is available on the Government Printing Office’s Web site at: http://www.access.gpo.gov/su_docs/aces/aces140.html.

FOR FURTHER INFORMATION CONTACT: Yvonne deReynier or Jamie Goen (NMFS, Northwest Region) 206-526-6140.

SUPPLEMENTARY INFORMATION: The Area 2A Catch Sharing Plan for Pacific halibut off Washington, Oregon, and California is implemented in the annual management measures for the Pacific halibut fisheries published on March 20, 2002 (67 FR 12885). Those regulations established the 2002 area quota for the south coast of Washington (Queets River to Leadbetter Point) fishery of 42,739 lb (19.4 mt) and the related management measures. The all-depth sport fishery in this area is scheduled for 5 days per week (Sunday through Thursday), and the nearshore fishery is scheduled for 7 days per week.

Over the last 4 weeks, the pace of the all-depth halibut fishery has slowed, due in part to a shift in fishing effort into the recreational chinook salmon fishery, which was open from May 25 through June 16 off the Washington coast. Effort in the sport halibut fishery is expected to remain low due to the opening of the recreational coho salmon fishery in the Westport, WA area. The coho fishery starts June 30 and lasts 5 days per week (Sunday through Thursday) through the earlier of September 8 or quota attainment.

As of June 27, 2002, a total of 1,919 lb (0.87 mt) of halibut were landed over the last 4 weeks compared to 31,390 lb (14.24 mt) over the first 4 weeks of the fishery. The quota left remaining for the Washington south coast fishery (both all-depth and nearshore) is 9,430 lb (4.28 mt). Although the pace of the south coast all-depth fishery has slowed, Washington Department of Fish and Wildlife (WDFW), the agency that directly monitors the sport halibut fishery off Washington’s coast, is concerned about leaving the entire south coast all-depth fishery open 5 days per week because of potential rockfish bycatch in the halibut sport fishery. WDFW is trying to keep bycatch of non-target species in the recreational fisheries below approximately 6,614 lb (3 mt) statewide. At the end of May, bycatch of non-target species was estimated to be at approximately 3,527 lb (1.6 mt). Bycatch of yelloweye rockfish, an overfished groundfish species, is of particular concern in the sport halibut fisheries. In order to keep the south coast all-depth fishery open while reducing the likelihood that the fishery will intercept yelloweye rockfish, WDFW recommended to NMFS and the International Pacific Halibut Commission (IPHC) that the all-depth fishery be changed from a 5 days per week fishery (Sunday through Thursday - the same open days as the recreational coho salmon fishery) to a 2 day per week fishery (Friday and Saturday). While this change would reduce the days of the week that a vessel could fish for halibut, thus reducing the chance of intercepting yelloweye rockfish, it would also allow more opportunity for sport boats to fish because they could target halibut on days when the salmon fishery is closed.

In addition to a reduction in fishing days per week, WDFW proposed to restrict the all-depth area that can be fished to the following two areas: (1) an area known as the “Westport, WA halibut hot spot” and (2) an area from Grays Harbor, WA south to Leadbetter Point, WA. NMFS proposes to allow only these areas to remain open because it would allow fishing for halibut in areas that have minimal yelloweye rockfish bycatch. The Westport, WA halibut hot spot is a three mile by three mile area approximately 34 miles offshore defined by the following coordinates: 47°19′ N. lat. by 124°53′ W. long., 47°19′ N. lat. by 124°48′ W. long., 47°16′ N. lat. by 124°53′ W. long., and 47°16′ N. lat. by 124°48′ W. long. Because the Westport, WA halibut hot spot is farther offshore, it is primarily accessible to charter boats and larger private vessels. In order to allow equal halibut opportunity to smaller private vessels along the south coast of Washington, WDFW also proposed to open an area closer to shore within an area defined by the following coordinates: 47°00' N. lat. south to 46°38′10″ N. lat.(Leadbetter Point, WA), and east of 124°27 W. long.

Section 25 of the 2002 Pacific halibut regulations provides NMFS with the authority to make certain inseason management changes, provided that the action is necessary to allow allocation objectives to be met, and that the action will not result in exceeding the catch limit for the area. The Catch Sharing Plan’s structuring objective for the Washington south coast area is to maximize the season length, while maintaining a quality fishing experience.

The Washington south coast all-depth subarea would be changed from a 5 days per week (Sunday through Thursday) fishery to a 2 days per week (Friday and Saturday) fishery. Additionally, sport fishing for halibut in this area would be restricted to an area known as the Westport, WA halibut hot spot and an area closer to shore between Grays Harbor, WA and Leadbetter Point, WA. The purpose of leaving these areas open is to lengthen the season by allowing fishers access to areas of more abundant halibut while reducing the likelihood of yelloweye rockfish interception.

In consultation with the WDFW and the IPHC, NMFS has determined that restricting the Washington south coast all-depth subarea to halibut fishing only on Fridays and Saturdays in the areas defined above meets the Catch Sharing Plan’s objective of providing a quality fishing experience without allowing the fishery to exceed the Washington south coast halibut quota. Additionally, this action is expected to protect an overfished groundfish species, yelloweye rockfish.

NMFS Action

For the reasons stated above, NMFS announces the following change to the 2002 annual management measures (67 FR 12885, March 20, 2002).

1. On page 12895, in section 24. Sport Fishing for Halibut, paragraph (4)(b)(iii)(A) is revised to read as follows:

24. Sport Fishing for Halibut

* * * * *

(A) The south coast area (Queets River to Leadbetter Point) will remain open until 42,739 lb (19.4 mt) is estimated to have been taken and the season is closed by the Commission, or until September 30, whichever occurs first.

(1) The fishing season commences May 1 and continues 7 days a week in the area from Queets River south to 47°00′ N. lat. and east of 124°40′ W. long.

(2) The fishing season commences on May 1 and continues 5 days per week (Sunday through Thursday) in all waters until July 11. Starting July 12, the fishing season will be 2 days a week (Friday and Saturday) in the area outside the area described in (A)(1), but will be restricted to two areas defined by the following coordinates:

(i) 47°19′ N. lat. by 124°53′ W. long., 47°19′ N. lat. by 124°48′ W. long., 47°16′ N. lat. by 124°53′ W. long., and 47°16′ N. lat. by 124°48′ W. long and

(ii) 47°00′ N. lat. south to 46°38′10″ N. lat.(Leadbetter Point), and east of 124°27′ W. long.

* * * * *

Classification

This action is authorized by the regulations implementing the Catch Sharing Plan. The determination to take these actions is based on the most recent data available. The Assistant Administrator for Fisheries, NOAA (AA), has determined that good cause exists for this document to be published without affording a prior opportunity for public comment under 5 U.S.C. 553(b)(B) because doing so would be impracticable and contrary to the public interest. Providing prior notice and opportunity for public comment would be impracticable and contrary to the public interest because it would delay this action and lead to earlier season closures and a greater likelihood of yelloweye rockfish interception in the halibut sport fishery off Washington’s south coast. It is contrary to the public interest because it would delay this action and prevent fishers from continuing to access the Washington south coast halibut quota while avoiding yelloweye rockfish. For the above reasons, the AA has also determined that good cause exists to waive the delay of effectiveness of this action under 5 U.S.C. 553(d)(3).

Public comments will be received for a period of 15 days after the effectiveness of this action. This action is authorized by Section 25 of the annual management measures for Pacific halibut fisheries published on March 20, 2002 (67 FR 12885), and has been determined to be not significant for purposes of Executive Order 12866.

Authority: 16 U.S.C. 773-773k et seq.

Dated: July 10, 2002.
Virginia M. Fay,
Acting Director, Office of Sustainable Fisheries, National Marine Fisheries Service.

[FR Doc. 02-17704 Filed 7-10-02; 4:31 pm]

BILLING CODE 3510-22-S